DEPARTMENT OF ENERGY

Federal Energy Regulatory Commission

Combined Notice of Filings

Take notice that the Commission has received the following Natural Gas Pipeline Rate and Refund Report filings:

Filings Instituting Proceedings

Docket Numbers: RP25-929-000.

Applicants: Equitrans, L.P.

Description: 4(d) Rate Filing: Negotiated Rate Agreement—06/01/2025 to be effective 6/1/2025.

Filed Date: 5/30/25.

Accession Number: 20250530-5253.

Comment Date: 5 p.m. ET 6/11/25.

Docket Numbers: RP25-930-000.

Applicants: El Paso Natural Gas Company, L.L.C.

Description: 4(d) Rate Filing: Negotiated Rate Agreement Update (Hartree June 25) to be effective 6/1/2025.

Filed Date: 5/30/25.

Accession Number: 20250530-5266.

Comment Date: 5 p.m. ET 6/11/25.

Docket Numbers: RP25-931-000.

Applicants: El Paso Natural Gas Company, L.L.C.

Description: 4(d) Rate Filing: Negotiated Rate Agreements Update (Sempra June 2025) to be effective 6/1/2025.

Filed Date: 5/30/25.

Accession Number: 20250530-5274.

Comment Date: 5 p.m. ET 6/11/25.

Docket Numbers: RP25-932-000.

Applicants: Golden Pass Pipeline LLC.

Description: 4(d) Rate Filing: Non-conforming Interim FT Agreement with GPLNG to be effective 7/1/2025.

Filed Date: 5/30/25.

Accession Number: 20250530-5322.

Comment Date: 5 p.m. ET 6/11/25.

Docket Numbers: RP25-933-000.

Applicants: Columbia Gas Transmission, LLC.

Description: 4(d) Rate Filing: Neg Rate Agmts—BP & Citadel Eff. 6.1.25 to be effective 6/1/2025.

Filed Date: 5/30/25.

Accession Number: 20250530-5328.

Comment Date: 5 p.m. ET 6/11/25.

Docket Numbers: RP25-934-000.

Applicants: Eastern Shore Natural Gas Company.

Description: 4(d) Rate Filing: Fuel Retention & Cash Out Adjustment 2025 to be effective 7/1/2025.

Filed Date: 5/30/25.

Accession Number: 20250530-5331.

Comment Date: 5 p.m. ET 6/11/25.

Docket Numbers: RP25-935-000.

Applicants: Northern Natural Gas Company.

Description: 4(d) Rate Filing: 20250530 Negotiated Rate to be effective 6/1/2025.

Filed Date: 5/30/25.

Accession Number: 20250530-5341.

Comment Date: 5 p.m. ET 6/11/25.

Docket Numbers: RP25-936-000.

Applicants: Vector Pipeline L.P., Adelphia Gateway, LLC.

Description: 4(d) Rate Filing: Vector Pipeline L.P. submits tariff filing per 154.312: Vector Pipeline General Section 4 Rate Case Filing to be effective 7/1/2025.

Filed Date: 5/30/25.

Accession Number: 20250530-5402.

Comment Date: 5 p.m. ET 6/11/25.

Docket Numbers: RP25-937-000.

Applicants: Algonquin Gas Transmission, LLC.

Description: 4(d) Rate Filing: Negotiated Rates—Various Releases eff 6-1-25 to be effective 6/1/2025.

Filed Date: 6/2/25.

Accession Number: 20250602-5102.

Comment Date: 5 p.m. ET 6/16/25.

Docket Numbers: RP25-938-000.

Applicants: Mountain Valley Pipeline, LLC.

Description: 4(d) Rate Filing: Negotiated Rate Capacity Release Agreements—06/01/2025 to be effective 6/1/2025.

Filed Date: 6/2/25.

Accession Number: 20250602-5110.

Comment Date: 5 p.m. ET 6/16/25.

Docket Numbers: RP25-939-000.

Applicants: Rover Pipeline LLC.

Description: 4(d) Rate Filing: Summary of Negotiated Rate Capacity Release Agreements 6-2-2025 to be effective 6/1/2025.

Filed Date: 6/2/25.

Accession Number: 20250602-5113.

Comment Date: 5 p.m. ET 6/16/25.

Docket Numbers: RP25-940-000.

Applicants: Equitrans, L.P.

Description: 4(d) Rate Filing: Negotiated Rate Capacity Release Agreements—06/01/2025 to be effective 6/1/2025.

Filed Date: 6/2/25.

Accession Number: 20250602-5114.

Comment Date: 5 p.m. ET 6/16/25.

Docket Numbers: RP25-941-000.

Applicants: Texas Eastern Transmission, LP.

Description: 4(d) Rate Filing: Negotiated Rates—Various Releases eff 6-1-25 to be effective 6/1/2025.

Filed Date: 6/2/25.

Accession Number: 20250602-5131.

Comment Date: 5 p.m. ET 6/16/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP01-382-035.

Applicants: Northern Natural Gas Company.

Description: Northern Natural Gas Company submits Carlton Reimbursement Report.

Filed Date: 6/2/25.

Accession Number: 20250602-5111.

Comment Date: 5 p.m. ET 6/16/25.

Any person desiring to protest in any the above proceedings must file in accordance with Rule 211 of the Commission's Regulations (18 CFR 385.211) on or before 5:00 p.m. Eastern time on the specified comment date. The filings are accessible in the Commission's eLibrary system (https://elibrary.ferc.gov/idmws/search/fercgensearch.asp) by querying the docket number. eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 2, 2025,
Carlos D. Clay,
Deputy Secretary.

[FR Doc. 2025-10358 Filed 6-5-25; 8:45 am]

BILLING CODE 6717-01-P